DEPARTMENT OF HOMELAND SECURITY

Federal Emergency Management Agency

Agency Information Collection Activities: Proposed Collection; Comment Request

AGENCY: Federal Emergency Management Agency, Department of Homeland Security.

ACTION: Notice and request for comments.

SUMMARY: The Federal Emergency Management Agency, as part of its continuing effort to reduce paperwork and respondent burden, invites the general public and other Federal agencies to take this opportunity to comment on a proposed continuing information collection. In accordance with the Paperwork Reduction Act of 1995, this notice seeks comments concerning the Application for Community Disaster Loans Program/Special Community Disaster Loans Program.

SUPPLEMENTARY INFORMATION: The Community Disaster Loan Program, (CDL) is authorized by Section 417 of the Robert T. Stafford Disaster Relief and Emergency Assistance Act, Public Law 93-288, as amended, provides policies and procedures for local governments and State and Federal officials concerning the Community Disaster Loan program; FEMA regulations 44 CFR, Part 206, Subpart K, implements the statutes. DAP-5, Community Disaster Loan Handbook, promulgates FEMA's policies and procedures to State and local officials. The Division Director may make a CDL to any local government which has suffered a substantial loss of tax or other revenues as a result of a major disaster or emergency and which demonstrates a need for Federal financial assistance in order to perform its governmental functions.

In response to the disaster caused by Hurricane Katrina, Congress passed the Community Disaster Loan Act of 2005, Pub. L. 109-88, which authorizes FEMA to transfer $750 million from the funds appropriated in the Second Emergency Supplemental Appropriations Act To Meet Immediate Needs Arising From the Consequences of Hurricane Katrina, 2005, Pub. L. 109-62, to provide up to $1 billion in loan authority. For loans issued pursuant to the 2005 Act, the 2005 Act adds three elements to the traditional program under section 417 of the Stafford Disaster Relief and Emergency Assistance Act (Stafford Act), 42 U.S.C. 5184: (1) The 2005 Act removes the $5 million limit on individual loans; (2) the 2005 Act specifies that the loans are “to assist local governments in providing essential services”; and (3) the 2005 Act makes inapplicable the loan cancellation provision of section 417(c)(1) of the Stafford Act. To implement the Community Disaster Loan Act of 2005, FEMA published an interim rule on October 18, 2005 implementing the Act. These new regulations do not apply to the traditional Community Disaster Loan Program.

Collection of Information

Title: Application for Community Disaster Loan Program (CDL)/Special Community Disaster Loan Program (SCDL).

Type of Information Collection: Extension of a currently approved collection.

OMB Number: 1660-0083.

Form Numbers: FF 90-143; 90-6; 90-7; 90-100; SF 1199A.

Abstract: The Application for Community Disaster Loan (CDL) Program and the Special Community Disaster Loan Program (SCDL) provide States, Local and Tribal governments that have suffered substantial loss of tax or other revenues as a result of a major disaster or emergency, the opportunity to obtain financial assistance in order to perform their governmental functions.

Affected Public: State, Local, or Tribal Government.

Estimated Total Annual Burden Hours: 1,812 hours.

Annual Burden Hours
Project/activity (survey, form(s), focus group, worksheet, etc.) | Number of respondents (A) | Frequency of responses (B) | Burden hours per respondent (in hrs.) (C) | Annual responses (A×B) | Total annual burden hours (A×B×C)
FF 90-143 | 100 | 1 | 2.5 | 100 | 250
FF 90-6 | 103 | 1 | 4.0 | 103 | 412
FF 90-7 | 3 | 1 | 1.0 | 3 | 3
FF 90-100 | 103 | 1 | 10.0 | 100 | 1,030
SF 1199A | 103 | 1 | 0.17 | 100 | 17
Letter of Application | 100 | 1 | 1.0 | 100 | 100
Total | 103 | 1 |  | 506 | 1812

Estimated Cost: Combined annualized cost to respondents for completing all forms is estimated at $72,371.00 or $746.00 per respondent based on wage rates and hour burden.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before April 18, 2006.

ADDRESSES: Interested persons should submit written comments to Chief, Records Management Section, Information Resources Management Branch, Information Technology Services Division, Federal Emergency Management Agency, 500 C Street, SW., Room 316, Washington, DC 20472.

FOR FURTHER INFORMATION CONTACT: Contact Clifford Brown, Program Specialist, Recovery Division, (202) 646-4136 for additional information. You may contact the Records Management Branch for copies of the proposed collection of information at facsimile number (202) 646-3347 or e-mail address: FEMA-Information-Collections@dhs.gov.

Dated: February 3, 2006.
Darcy Bingham,
Branch Chief, Information Resources Management Branch, Information Technology Services Division.

[FR Doc. E6-2314 Filed 2-16-06; 8:45 am]

BILLING CODE 9110-10-P